DEPARTMENT OF COMMERCE

National Oceanic and Atmospheric Administration

50 CFR Part 600

[ I.D. 100102D]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow one vessel to conduct fishing operations that are otherwise restricted by the regulations governing the fisheries of the Northeastern United States. The experiment proposes to conduct a study of an experimental bycatch reduction device in order to develop otter trawl gear for the NE Multispecies fishery that would result in reduced catch of Atlantic cod. The EFP would allow these exemptions for one commercial vessel for not more than 5 days of sea trials. All experimental work would be monitored by Manomet Center for Conservation Sciences personnel. Regulations under the Magnuson-Stevens Fishery Conservation and Management Act require publication of this notification to provide interested parties the opportunity to comment on applications for proposed EFPs.

DATES: Comments on this document must be received on or before November 13, 2002.

ADDRESSES: Written comments should be sent to Patricia A. Kurkul, Regional Administrator, NMFS, Northeast Regional Office, 1 Blackburn Drive, Gloucester, MA 01930. Mark the outside of the envelope “Comments on Manomet EFP Proposal for Inclined Mesh Bycatch Reduction Device.” Comments may also be sent via facsimile (fax) to (978) 281-9135.

FOR FURTHER INFORMATION CONTACT: Tom Warren, Fishery Policy Analyst, 978-281-9347.

SUPPLEMENTARY INFORMATION: An application for an EFP was submitted by Manomet Center for Conservation Sciences on August 19, 2002.

The EFP would allow for exemptions from the Gulf of Maine (GOM) Regulated Mesh Area gear requirements at 50 CFR 648.80(a)(3)(i) and the days-at-sea (DAS) requirements at 648.82(a). The EFP would exempt one federally permitted commercial fishing vessel from the following two requirements of the NE Multispecies FMP: The requirement to use a minimum mesh size of 6.0 inch (15.2 cm) diamond mesh or 6.5 inch (16.5 cm) square mesh in the body and extension of a trawl net while fishing in the GOM Regulated Mesh Area; and the requirement to use a day-at-sea (DAS) while targeting groundfish.

The goal of this study is to assess the utility of a bycatch reduction device in the GOM groundfish fishery. The specific trawl design to be tested is referred to as an inclined separation panel. The separation panel consists of 4 inch (10.2 cm) diamond mesh sewn in the extension and codend of a trawl (with 6.5-inch (16.5-cm) diamond mesh codend). The vessel will target mixed groundfish (yellowtail flounder, winter flounder, American plaice, Atlantic cod, and summer flounder). All undersized fish would be returned to the sea as quickly as possible after measurement. The incidental catch is expected to be comprised of skates, dogfish, sculpin and sea robin. The incidental catch of these species is expected to be minimal and efforts will be made to return incidentally caught species to the sea as quickly as possible. According to the applicant, a trawl net of similar design has been used in Irish Sea fisheries to separate cod from other roundfish and flatfish, with a success rate of approximately 80 percent.

The applicant requested that the research be conducted in the GOM in the area north of 42° 30' N. lat. and west of 69° 00' W. long. However, due to the severely overfished condition of the Cape Cod stock of yellowtail flounder, NMFS will confine the research to the area north of the stock boundary 42° 50' N. lat. The vessel would conduct a total of approximately 25 tows of 20 to 30 minutes duration over a period of 5 sea days. The tows would be recorded using a video camera in order to verify proper net functioning and to record fish behavioral reactions. Fish retained by the upper and lower codends would be counted, weighed and measured, and all legal catch sold. The vessel would be exempted from 5 DAS in order to provide compensation for a portion of the cost of the research.

If the research results prove similar to the 80-percent success rate reported by the Irish industry, the applicant intends to conduct future research to fine-tune the use of the net and conduct fleetwide trials with the hope of integrating a bycatch reduction device requirement into the FMP.

Based on the results of this EFP, this action may lead to future rulemaking.

Authority: 16 U.S.C. 1801 et seq.

Dated: October 23, 2002.
Dean Swanson,
Acting Director, Office of Sustainable Fisheries, National Marine Fisheries Service.

[FR Doc. 02-27511 Filed 10-28-02; 8:45 am]

BILLING CODE 3510-22-S